DEPARTMENT OF HOUSING AND URBAN DEVELOPMENT

[Docket No. FR-7080-N-30]

30-Day Notice of Proposed Information Collection: Eviction Protection Grant Program; OMB Control No.: 2528-0331

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: August 15, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov. telephone (202)-402-5535. This is not a toll-free number, HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Guido.

SUPPLEMENTARY INFORMATION: This notice informs the public that HUD is seeking approval from OMB for the information collection described in Section A.

The Federal Register notice that solicited public comment on the information collection for a period of 60 days was published on November 16, 2023 at 88 FR 78776.

A. Overview of Information Collection

Title of Information Collection: Eviction Protection Grant Program.

OMB Approval Number: 2528-0331.

Type of Request: Revision of a currently approved collection.

Form Number: N/A.

Description of the need for the information and proposed use: The Office of Policy Development and Research (PD&R), at the U.S. Department of Housing and Urban Development (HUD), is proposing the collection of additional information for the Eviction Protection Grant Program (EPGP).

The goal of this effort is to facilitate required management functions and analyses of the outcomes of HUD's Eviction Protection Grant Program. This research is expected to help the Federal government, states, and communities throughout the United States improve housing stability for households at risk of eviction or subject to eviction. In addition, this program can benefit municipalities and landlords per avoidance of evictions, improved timelines for evictions, reducing unpaid unit vacancies, and reducing the costs of litigation. This research will be used to assess the overall program, to include grantee and client outcomes. It will also assess variations in regional and local implementation of EPGP grants. The findings will support HUD in identifying opportunities for changes to legislation, policy, and program implementation for eviction support services.

This Federal Register Notice provides an opportunity to comment on the information collection for this effort entitled Updating Eviction Protection Grant Program Documents. This information collection is designed to support the study of households at risk of or subject to eviction, specifically to identify effective processes and corresponding outcomes for eviction support programs and translate this research into actionable programmatic recommendations with appropriate timelines, policy making and implementation changes to improve these outcomes. The project includes data collection among HUD EPGP grantees and clients who receive eviction support services.

Information collection | Number of respondents | Frequency of response | Response per year | Burden hours per response | Annual burden hours | Hourly cost per response | Annual cost
Grant work plan | 21 | 1 | 21 | 2 | 42 | $61.33 | $2,575.86
Detailed Budget Worksheet, 424 CBW | 21 | 1 | 21 | 3 | 63 | 61.33 | 3,863.79
Household Services and Outcomes Report, 52698 | 21 | 1,000 | 21,000 | 0.25 | 5,250 | 61.33 | 321,982.50
Household Services and Outcomes Submission Report 52698(a)† | 21 | 4 | 84 | 1 | 84 | 61.33 | 5,151.72
Benchmarks Plan and Report, 52699 | 21 | 4 | 84 | 0.5 | 42 | 61.33 | 2,575.86
Grant Detailed Voucher Worksheet, 52700 | 21 | 4 | 84 | 1 | 84 | 61.33 | 5,151.72
Grant reporting (narratives, existing process) | 21 | 4 | 84 | 2 | 168 | 61.33 | 10,303.44
Total | 21 | 18 | 21,378 | 9.75 | 5,733 | 61.33 | 351,604.89

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority Section 3507 of the Paperwork Reduction Act of 1995, 44 U.S.C. Chapter 35

Anna P. Guido,
Department Reports Management Office, Office of Policy Development and Research, Chief Data Officer.

[FR Doc. 2024-15540 Filed 7-15-24; 8:45 am]

BILLING CODE 4210-67-P